DEPARTMENT OF HOMELAND SECURITY

Bureau of Customs and Border Protection

Conclusion of Paperless Drawback Prototype

AGENCY: Customs and Border Protection, Homeland Security.

ACTION: General notice.

SUMMARY: This document announces that U.S. Customs and Border Protection (CBP) will be concluding its Paperless Drawback Prototype. The prototype, which tests the feasibility of filing paperless drawback claims using the Automated Broker Interface of CBP's Automated Commercial System, was announced in a Federal Register document published on September 27, 2002. In that document, CBP announced its intent to run the prototype for approximately one year and evaluate the test program at the end of that period. Based on its evaluation, CBP has determined that processing of paperless drawback claims cannot be successfully accomplished under current automated systems and the Paperless Drawback Prototype should not be continued for that reason.

DATES: The Paperless Drawback Prototype will conclude on June 28, 2004.

FOR FURTHER INFORMATION CONTACT: Sherri Lee Hoffman, Entry and Drawback Management Branch, Telephone: (202) 927-0300, E-mail: sherri.hoffman@dhs.gov.

SUPPLEMENTARY INFORMATION:

Background

In a document published in the Federal Register (67 FR 61197) on September 27, 2002, CBP announced its plan to conduct a prototype to test the feasibility of filing paperless drawback claims using the Automated Broker Interface of CBP's Automated Commercial System. The test program was scheduled to run for approximately one year, with a final evaluation to take place at the end of that period.

In a subsequent announcement in the Federal Register (68 FR 18994), dated April 17, 2003, CBP reopened the prototype's application period to encourage greater participation in the test program. As a result, commencement of the prototype was delayed until June 18, 2003.

Based on its evaluation of the Paperless Drawback Prototype, CBP has concluded that processing of paperless drawback claims cannot be successfully accomplished under current automated systems. In this regard, it is noted that certain types of drawback claims cannot be processed without the filing of paper documentation (i.e., drawback claims involving NAFTA merchandise, merchandise processing fees, harbor maintenance fees, single entry bonds, etc.). Although CBP notified approved participants in writing that drawback claims requiring paper documentation would not be accepted for purposes of the Paperless Drawback Prototype, many such claims were nonetheless submitted to CBP under the auspices of the test program. In these instances, CBP was able to redirect the submissions as paper drawback claims. It is anticipated, however, that an expansion of the Paperless Drawback Prototype would make this problem difficult to contain and would result in unnecessary delays in the processing of drawback claims.

For this reason, CBP is of the view that the Paperless Drawback Prototype should be discontinued. CBP will conclude the Paperless Drawback Prototype effective upon the date of publication of this document in the Federal Register.

Dated: June 22, 2004.
William S. Heffelfinger III,
Acting Assistant Commissioner, Office of Field Operations.

[FR Doc. 04-14560 Filed 6-25-04; 8:45 am]

BILLING CODE 4820-02-P